ENVIRONMENTAL PROTECTION AGENCY

[EPA-HQ-SFUND-2012-0104; FRL-9945-81-OEI]

Information Collection Request Submitted to OMB for Review and Approval; Comment Request; Brownfields Program—Accomplishment Reporting (Renewal)

AGENCY: Environmental Protection Agency (EPA).

ACTION: Notice.

SUMMARY: The Environmental Protection Agency has submitted an information collection request (ICR), “Brownfields Program—Accomplishment Reporting (Renewal)” (EPA ICR No. 2104.06, OMB Control No. 2050-0192) to the Office of Management and Budget (OMB) for review and approval in accordance with the Paperwork Reduction Act (44 U.S.C. 3501 et seq.). This is a proposed extension of the ICR, which is currently approved through May 31, 2016. Public comments were previously requested via the Federal Register (81 FR 10859) on March 2, 2016 during a 60-day comment period. This notice allows for an additional 30 days for public comments. A fuller description of the ICR is given below, including its estimated burden and cost to the public. An Agency may not conduct or sponsor and a person is not required to respond to a collection of information unless it displays a currently valid OMB control number.

DATES: Additional comments may be submitted on or before June 13, 2016.

ADDRESSES: Submit your comments, referencing Docket ID Number EPA-HQ-SFUND-2012-0104, to (1) EPA online using www.regulations.gov (our preferred method), by email to docket.superfund@epa.gov, or by mail to: EPA Docket Center, Environmental Protection Agency, Mail Code 28221T, 1200 Pennsylvania Ave. NW., Washington, DC 20460, and (2) OMB via email to oira_submission@omb.eop.gov. Address comments to OMB Desk Officer for EPA.

EPA's policy is that all comments received will be included in the public docket without change including any personal information provided, unless the comment includes profanity, threats, information claimed to be Confidential Business Information (CBI) or other information whose disclosure is restricted by statute.

FOR FURTHER INFORMATION CONTACT: Kelly Gorini, Office of Brownfields and Land Revitalization, (5105T), Environmental Protection Agency, 1200 Pennsylvania Ave. NW., Washington, DC 20460; telephone number: (202)-566-1702; fax number: (202)-566-1476; email address: gorini.kelly@epa.gov.

SUPPLEMENTARY INFORMATION: Supporting documents which explain in detail the information that the EPA will be collecting are available in the public docket for this ICR. The docket can be viewed online at www.regulations.gov or in person at the EPA Docket Center, WJC West, Room 3334, 1301 Constitution Ave. NW., Washington, DC. The telephone number for the Docket Center is 202-566-1744. For additional information about EPA's public docket, visit http://www.epa.gov/dockets.

Abstract: The Small Business Liability Relief and Brownfields Revitalization Act (Pub. L. 107-118) (“the Brownfields Amendments”) was signed into law on January 11, 2002. The Act amends the Comprehensive Environmental Response, Compensation, and Liability Act (CERCLA), as amended, and authorizes EPA to award cooperative agreements to states, tribes, local governments, and other eligible entities to assess and clean up brownfield sites. Under CERCLA 101(39), a brownfields site means real property, the expansion, redevelopment, or reuse of which may be complicated by the presence or potential presence of a hazardous substance, pollutant, or contaminant. For funding purposes, EPA uses the term “brownfields property(ies)” synonymously with the term “brownfields sites.” CERCLA 104(k) authorizes EPA to award several types of cooperative agreements to eligible entities on a competitive basis.

Under CERCLA 104(k), states, tribes, local governments, and other eligible entities may receive assessment cooperative agreements to inventory, characterize, assess, and conduct planning and community involvement related to brownfields properties; cleanup cooperative agreements to carry out cleanup activities at brownfields properties; cooperative agreements to capitalize revolving loan funds and provide subawards for cleanup activities; area-wide planning cooperative agreements to develop revitalization plans for brownfields; and environmental workforce and development job training and placement programs. Under CERCLA 128(a), states and tribes may receive cooperative agreements to establish and enhance their response programs.

Cooperative agreement recipients (“recipients”) have general reporting and record keeping requirements as a condition of their cooperative agreement that result in burden. A portion of this reporting and record keeping burden is authorized under 2 CFR 200.328, 200.333 and 200.335 and identified in the EPA's general grants ICR (OMB Control Number 2030-0020). However, EPA also requires Brownfields program recipients to maintain and report additional information to EPA on the uses and accomplishments associated with funded brownfields activities. EPA uses several forms to assist recipients in reporting the information and to ensure consistency of the information collected. EPA uses this information to meet Federal stewardship responsibilities to manage and track how program funds are being spent, to evaluate the performance of the Brownfields Cleanup and Land Revitalization Program, to meet the Agency's reporting requirements under the Government Performance Results Act, and to report to Congress and other program stakeholders on the status and accomplishments of the program.

Form Numbers: 6200-14, 6200-13, 6200-04, 6200-03.

Respondents/affected entities: State/local/tribal governments; Non-Profits.

Respondent's obligation to respond: Required to obtain or Retain Benefits (2 CFR part 1500).

Estimated number of respondents: 2,890 (total).

Frequency of response: Bi-annual; quarterly, on occasion.

Total estimated burden: 3,877 hours (per year). Burden is defined at 5 CFR 1320.03(b).

Total estimated cost: $414,197 (per year), includes $0 annualized capital or operation & maintenance costs.

Changes in the Estimates: There is an increase of 710 hours in the total estimated respondent burden compared with the ICR currently approved by OMB. This increase is due to the overall increase in wages and the overall increase in the number of respondents submitting the Property Profile Forms. Even with this slight increase, respondents indicated that improvements in the ACRES reporting system and increased familiarity with the program led to a lower burden per individual entry.

Courtney Kerwin,
Acting Director, Collection Strategies Division.

[FR Doc. 2016-11277 Filed 5-12-16; 8:45 am]

BILLING CODE 6560-50-P